DEPARTMENT OF VETERANS AFFAIRS

38 CFR Part 1

RIN 2900-AJ49

Outer Burial Receptacles

AGENCY: Department of Veterans Affairs.

ACTION: Final rule.

SUMMARY: By statute the Department of Veterans Affairs (VA) is authorized to provide a monetary allowance for each new burial in a VA national cemetery where a privately-purchased outer burial receptacle is used in lieu of a government-furnished graveliner. This document establishes a mechanism for implementing these provisions.

DATES: Effective Date: This final rule is effective December 8, 2000.

Applicability Date: The provisions of Public Law 104-275 were enacted on October 9, 1996, and the provisions of this regulation shall be retroactive to this date.

FOR FURTHER INFORMATION CONTACT: Deanna Wilson, Program Analyst, Communications Management Service (402B1), National Cemetery Administration, Department of Veterans Affairs, 810 Vermont Avenue, NW., Washington, DC 20420. Telephone: 202-273-5154 (this is not a toll-free number).

SUPPLEMENTARY INFORMATION: In a document published in the Federal Register on April 18, 2000 (65 FR 20787), we proposed to establish a mechanism for providing a monetary allowance for each new burial in a VA national cemetery where a privately-purchased outer burial receptacle is used in lieu of a government-furnished graveliner.

We provided a 60-day comment period that ended June 19, 2000. We received 20 comments. All were in favor of the proposed rule.

Based on the rationale set forth in the proposed rule and this document, we are adopting the provisions of the proposed rule as a final rule without change.

Regulatory Flexibility Act

The Secretary certifies that this rule will not have a significant economic impact on a substantial number of small entities as they are defined in the Regulatory Flexibility Act, 5 U.S.C. 601-612. The rule will not affect the sale of outer burial receptacles. Further, the basic provisions of the rule reflect statutory requirements. Accordingly, pursuant to 5 U.S.C. 605(b), the rule is exempt from the initial and final regulatory flexibility analyses requirements of sections 603 and 604.

Catalog of Federal Domestic Assistance Number for programs affected by this regulation is 64.201.

List of Subjects in 38 CFR Part 1

Administrative practice and procedure, Archives and records, Cemeteries, Claims, Courts, Flags, Freedom of information, Government contracts, Government employees, Government property, Infants and children, Inventions and patents, Investigations, Parking, Penalties, Postal Service, Privacy, Reporting and recordkeeping requirements, Seals and insignia, Security measures, wages.

Approved: October 31, 2000.
Hershel W. Gober,
Acting Secretary of Veterans Affairs.

For the reasons set out in the preamble, 38 CFR part 1 is amended as follows:

PART 1—GENERAL PROVISIONS

1. The authority citation for part 1 continues to read as follows:

Authority: 38 U.S.C. 501(a), unless otherwise noted.

2. Section 1.629 is added to read as follows:

§ 1.629 Monetary allowance in lieu of a Government-furnished outer burial receptacle.

(a) Definitions—Outer burial receptacle. For purposes of this section, an outer burial receptacle means a graveliner, burial vault, or other similar type of container for a casket.

(b) Purpose. This section provides for payment of a monetary allowance for an outer burial receptacle for any interment in a VA national cemetery where a privately-purchased outer burial receptacle has been used in lieu of a Government-furnished graveliner.

(c) Second interments. In burials where a casket already exists in a grave with or without a graveliner, placement of a second casket in an outer burial receptacle will not be permitted in the same grave unless the national cemetery director determines that the already interred casket will not be damaged.

(d) Payment of monetary allowance. VA will pay a monetary allowance for each burial in a VA national cemetery where a privately-purchased outer burial receptacle was used on and after October 9, 1996. For burials on and after January 1, 2000, the person identified in records contained in the National Cemetery Administration Burial Operations Support System as the person who privately purchased the outer burial receptacle will be paid the monetary allowance. For burials during the period October 9, 1996 through December 31, 1999, the allowance will be paid to the person identified as the next of kin in records contained in the National Cemetery Administration Burial Operations Support System based on the presumption that such person privately purchased the outer burial receptacle (however, if a person who is not listed as the next of kin provides evidence that he or she privately purchased the outer burial receptacle, the allowance will be paid instead to that person). No application is required to receive payment of a monetary allowance.

(e) Amount of the allowance. (1) For calendar year 2000 and each calendar year thereafter, the allowance will be the average cost, as determined by VA, of Government-furnished graveliners, less the administrative costs incurred by VA in processing and paying the allowance.

(i) The average cost of Government-furnished graveliners will be based upon the actual average cost to the Government of such graveliners during the most recent fiscal year ending prior to the start of the calendar year for which the amount of the allowance will be used. This average cost will be determined by taking VA's total cost during that fiscal year for single-depth graveliners which were procured for placement at the time of interment and dividing it by the total number of such graveliners procured by VA during that fiscal year. The calculation shall exclude both graveliners procured and pre-placed in gravesites as part of cemetery gravesite development projects and all double-depth graveliners.

(ii) The administrative costs incurred by VA will consist of those costs that relate to processing and paying an allowance, as determined by VA, for the calendar year ending prior to the start of the calendar year for which the amount of the allowance will be used.

(2) For calendar year 2000 and each calendar year thereafter, the amount of the allowance for each calendar year will be published in the “Notices” section of the Federal Register. The Federal Register Notice will also provide, as information, the determined average cost of Government-furnished graveliners and the determined amount of the administrative costs to be deducted.

(3) The published allowance amount for interments which occur during calendar year 2000 will also be used for payment of any allowances for interments which occurred during the period from October 9, 1996 through December 31, 1999.

(Authority: 38 U.S.C. 2306(d)).

[FR Doc. 00-31289 Filed 12-7-00; 8:45 am]

BILLING CODE 8320-01-P